DEPARTMENT OF TRANSPORTATION

Federal Railroad Administration

Petitions for Waivers of Compliance

In accordance with Title 49 Code of Federal Regulations (CFR) § 211.41, and 49 U.S.C. 20103, notice is hereby given that the Federal Railroad Administration (FRA) has received a request for wavier of compliance with certain requirements of the Federal railroad safety regulations. The individual petition is described below, including the party seeking relief, the regulatory provisions involved, and the nature of the relief being sought.

New York State Department of Transportation

[Docket Number FRA-2001-11233]

The New York State Department of Transportation (NYSDOT), with the cooperation and input of CSX Transportation, Inc. (CSX) and the National Railroad Passenger Corp. (Amtrak) seeks a permanent waiver of compliance from CFR Title 49 § 213.347—Automotive or railroad crossings at grade.

NYSDOT seeks approval to operate passenger trains at Class 7 speeds through highway rail grade crossings on the Empire State High Speed Corridor between New York City, New York and Schenectady, New York by implementing a Grade Crossing Risk Mitigation Plan. Specifically, CFR Title 49 § 213.347(b)(1) requires railroads to submit to FRA for approval a warning/barrier system. NYSDOT believes that present systems for prevent vehicles from entering the right of way are not yet reliable enough to prevent vehicles from entering the right of way to protect motorist and rail passenger safety. Accordingly, NYSDOT desires to address safety concerns at highway rail grade crossings by implementing a Five Year Hazard Mitigation Action Plan with highway railroad grade crossing improvement, elimination, and closing projects that will substantially reduce estimated risks.

Since FRA has not yet concluded its investigation of the “Empire State High Speed Corridor Grade Crossing Mitigation Plan and Request for Waiver to Operate in Revenue Service at Speeds Over 100 MPH,” the agency takes no position at this time on the merits of the stated justifications of the NYSDOT.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2001-11233) and must be submitted to the Docket Clerk, DOT Central Docket Management Facility, Room PL-401 (Plaza level) 400 Seventh Street, SW., Washington, DC 20590. Communications received within 30 days of the date of this notice will be considered by FRA before final action is taken. Comments received after that date will be considered as far as practicable. All written communications concerning this proceeding are available for examination during regular business hours (9 a.m.-5 p.m.) at the above facility. All documents in the public docket are also available for inspection and copying on the Internet at the docket facility's Web site at http://dms.dot.gov.

Issued in Washington, DC, December 28, 2001.
Edward W. Pritchard,
Acting Director, Office of Safety Assurance and Compliance.

[FR Doc. 02-58 Filed 1-2-02; 8:45 am]

BILLING CODE 4910-06-M